DEPARTMENT OF HEALTH AND HUMAN SERVICES

National Institutes of Health

Center for Scientific Review; Amended Notice of Meeting

Notice is hereby given of a change in the meeting of the Social Psychology, Personality and Interpersonal Processes Study Section, October 17, 2013, 09:00 a.m. to October 17, 2013, 06:00 p.m., Renaissance Mayflower Hotel, 1127 Connecticut Avenue NW., Washington, DC 20036, which was published in the Federal Register on September 23, 2013, 78 FR 184 Pgs. 58324-58325.

The meeting will start on December 6, 2013 at 10:00 a.m. and end December 6, 2013 at 5:00 p.m. The meeting location remains the same. The meeting is closed to the public.

Dated: October 30, 2013.
David Clary,
Program Analyst, Office of Federal Advisory Committee Policy.

[FR Doc. 2013-26308 Filed 11-1-13; 8:45 am]

BILLING CODE 4140-01-P